DEPARTMENT OF HEALTH AND HUMAN SERVICES

Centers for Disease Control and Prevention

Funding Opportunity Number AA113; Rural HIV/AIDS Prevention Project; Notice of Intent To Fund Single Eligibility Award

A. Purpose

The Centers for Disease Control and Prevention (CDC) announces the availability of fiscal year (FY) 2005 funds for a cooperative agreement to assist rural HIV prevention program providers in developing and delivering HIV prevention programs by (1) identifying effective HIV prevention programs and innovative materials and (2) disseminating this information to rural HIV prevention providers. The Catalog of Federal Domestic Assistance number for this program is 93.939.

B. Eligible Applicant

Assistance will be provided only to the Rural Center for AIDS/STD Prevention/Indiana University (IU). No other applicants are solicited. The Rural Center for AIDS/STD Prevention (IU) is the appropriate and only qualified agency to provide the services specified under this cooperative agreement because:

• The Rural Center is the only such organization that solely focuses on HIV/STD prevention for all rural communities in the country. The Rural Center has been emphasizing HIV/STD prevention in rural communities for over ten years. The Rural Center has developed relationships with HIV prevention providers in rural communities, earning their trust and willingness to share information about their activities.

• An extensive internet search of organizations providing HIV prevention services to rural communities throughout the U.S., as described in this program announcement, did not identify any other comparable organizations.

• The Rural Center is widely recognized as a valuable resource for rural HIV/STD prevention specialists; its Web site receives over 30,000 “hits” per month. The Rural Center disseminates HIV/STD prevention information and research findings through various professional trainings and prevention guidelines development.

• The Rural Center has established the National Network of Rural HIV/STD Prevention Specialists. This network of over 800 members provides a forum (e.g. e-mail listserv) for rural HIV/STD prevention specialists to discuss prevention-related issues for rural communities, to exchange information, and to offer support. This network forms the basis for communication with rural HIV prevention programs. Other organizations serving rural communities are state or regionally based.

• The Rural Center distributes monthly STD/HIV prevention updates via e-mail and fax to several hundred rural HIV/STD prevention specialists throughout the country.

• The Rural Center has a collaborative working relationship with the National Rural Health Association (NRHA) and conducts national conferences every two years for rural HIV/STD prevention specialists. The goal of the conferences is to present model rural HIV/STD prevention programs and emphasize information exchange and lessons learned. The Rural Center complements the activities of NRHA because NRHA does not provide specific HIV/AIDS-related services.

C. Funding

Approximately $245,471 is available in FY 2005 to fund this award February 1, 2006 and will be made for a 12-month budget period within a project period of up to five years. Funding estimates may change.

D. Where To Obtain Additional Information

For general comments or questions about this announcement, contact: Technical Information Management Section, CDC Procurement and Grants Office, 2920 Brandywine Road, Atlanta, GA 30341-4146. Telephone: 770-488-2700.

For technical questions about this program, contact: Bob Kohmescher, Project Officer, Centers for Disease Control and Prevention, 1600 Clifton Rd (MS E35), Atlanta, GA 30333. Telephone: 404-639-1914. E-mail: rnk1@cdc.gov.

Dated: September 26, 2005.
William P. Nichols,
Director, Procurement and Grants Office, Centers for Disease Control and Prevention.

[FR Doc. 05-19692 Filed 9-30-05; 8:45 am]

BILLING CODE 4163-18-P